NATIONAL SCIENCE FOUNDATION

Sunshine Act Meeting

The National Science Board's Committee on National Science and Engineering Policy hereby gives notice of the scheduling of a teleconference for the transaction of National Science Board business as follows:

TIME AND DATE: Monday, November 29, 2021, from 4:30—5:30 p.m. EST.

PLACE: This meeting will be held by teleconference through the National Science Foundation.

STATUS: Open

MATTERS TO BE CONSIDERED: The agenda of the teleconference is: Chair's opening remarks; update on Science & Engineering Indicators 2022 reports; update on plans for statutory delivery and public rollout of Indicators 2022; discussion of Board policy messages companion piece accompanying Indicators; discussion of additional Board policy products.

CONTACT PERSON FOR MORE INFORMATION: Point of contact for this meeting is: Chris Blair, cblair@nsf.gov, 703/292-7000. To listen to this teleconference, members of the public must send an email to nationalsciencebrd@nsf.gov at least 24 hours prior to the teleconference. The National Science Board Office will send requesters a toll-free dial-in number. Meeting information and updates may be found at the National Science Board website www.nsf.gov/nsb.

Chris Blair,
Executive Assistant to the National Science Board Office.

[FR Doc. 2021-25807 Filed 11-22-21; 4:15 pm]

BILLING CODE 7555-01-P